DEPARTMENT OF TRANSPORTATION

Federal Aviation Administration

RTCA, Inc.; Special Committee 159; Global Positioning System (GPS)

Pursuant to section 10(a)(2) of the Federal Advisory Committee Act (Pub. L. 92-463, 5 U.S.C., Appendix 2), notice is hereby given of a request from the Department of Transportation (DOT) for RTCA to develop appropriate material for DOT consideration in preparing its comments on an FCC Notice of Proposed Rule-Making (NPRM), “In the Matter of Revision of Part 15 of the Commission's Rules Regarding Ultra-Wideband Transmission Systems.”

In response to this request, RTCA's Program management Committee has tasked Special Committee 159, Global Positioning System (GPS), to develop a response. Special Committee 159's next recommended submission, the Second Interim Report titled Ultra-Wideband Technology Radio Frequency Inference Effects to Global Positioning System Receivers and Interference Encounter Scenario Development, is being produced in two phases:

Phase I. The report segment produced in the first phase, Preliminary Aviation Approached Segments for the Second Interim Report, has been provided to the Program Management Committee for review and was forwarded to DOT on February 13, 2001. This report represented a work in progress and is posted to the RTCA web site (www.rtca.org) on the Program Management Committee (PMC) page.

Phase II. The complete Second Interim Report will finalized in the second phase and will include the phase I work as well as new material. The complete report will be posted to the RTCA web site by March 12, 2001.

The Program Management Committee will consider the completed Second Interim for approval at its meeting on March 27, 2001, before it is forwarded to DOT.

Persons wishing to obtain information, or have questions/comments, should contact RTCA, Inc., Attn: Mr. Jerry Bryant, at (202) 833-9339 (phone), (202) 833-9424 (facsimile), or jbryant@rtca.org (e-mail).

Issued in Washington, DC on February 15, 2001.
Janice L. Peters,
Designated Official.

[FR Doc. 01-4546 Filed 2-22-01; 8:45 am]

BILLING CODE 4910-13-M